NATIONAL SCIENCE FOUNDATION

National Science Board; Task Force on Sustainable Energy; Roundtable Discussion on Science and Engineering (S&E) Challenges Related to the Development of Sustainable Energy

Date and Time: February 8, 2008; 8 a.m. to 3 p.m.

Location: National Science Foundation, 4201 Wilson Blvd., Room 1235, Arlington, VA 22230. All visitors must report to the NSF visitor desk at the 9th and N. Stuart Streets entrance to receive a visitor's badge. This roundtable discussion will be open to the public.

FOR FURTHER INFORMATION CONTACT: Tami Tamashiro, National Science Board Office, Tel: (703) 292-7853, E-mail: ttamashi@nsf.gov. Please refer to the National Science Board Web site (http://www.nsf.gov/nsb) for an updated agenda.

Provisional Agenda

8 a.m. Welcoming Remarks

• Dr. Steven C. Beering, Chairman, National Science Board.

8:05 a.m. Overview, Purpose, and Goals of the Roundtable Discussion

• Dr. Dan E. Arvizu and Jon C. Strauss, Co-Chairmen, Task Force on Sustainable Energy.

8:15 a.m. Process and Logistics for Board Roundtable Discussions

• Dr. Craig Robinson, Acting Executive Officer, National Science Board.

8:20 a.m. Introduction of Participants

8:30 a.m. Keynote Address (followed by Q&A)

• Congressman Jay Inslee.

9:30 a.m. Presentation: TBD

9:50 a.m. Discussion Session 1: Role of Science and Engineering in the Development of Sustainable Energy

Discussion Co-Moderators: Dr. Arvizu and Dr. Strauss.

Focus Questions

(1) How can science and engineering advancements help address some of the key uncertainties in the development of sustainable energy, as well as, bring new technologies to the market?

(2) How must transformation take place in science and engineering throughout our education, research, and corporate infrastructure?

(3) Where are the next big breakthroughs likely to occur in sustainable energy?

11 a.m. Break

11:15 a.m. Presentation: Dr. Robert Corell

11:35 a.m. Lunch and Discussion Session 2: Role of NSF in a Nationally Coordinated S&E Research and Education Initiative

Discussion Co-Moderators: Dr. Arvizu and Dr. Strauss.

Focus Question

(1) How can NSF best support establishing and sustaining a nationally coordinated S&E research and education initiative on sustainable energy?

12:45 p.m. Break

1 p.m. Presentation: TBD

1:25 p.m. Discussion Session 3: Recommendations for a Nationally Coordinated S&E Research and Education Initiative on Sustainable Energy

Discussion Co-Moderators: Dr. Arvizu and Dr. Strauss.

Focus Questions

(1) How do we as a nation build the capability, the policy, and the regulatory environment to effect change in the energy sector sufficiently and rapidly?

(2) What specific actions are needed to establish and sustain a nationally coordinated S&E research and education initiative on sustainable energy?

(3) What is the potential role of the U.S. Government, private industry, and NGOs in addressing the science and engineering (S&E) challenges related to the development of sustainable energy described in the task force charge?

2:45 p.m. Summary and Next Steps for the Task Force

• Dr. Arvizu and Dr. Strauss.

Note: This roundtable discussion will not involve National Science Board deliberations and is not subject to 5 U.S.C. 552b.

Russell Moy,
Attorney-Advisor.

[FR Doc. E8-2106 Filed 2-5-08; 8:45 am]

BILLING CODE 7555-01-P